DEPARTMENT OF ENERGY

Federal Energy Regulatory Commission

Combined Notice of Filings #1

Take notice that the Commission received the following electric rate filings:

Docket Numbers: ER10-1944-002; ER13-1670-004; ER13-1401-001; ER10-2051-003; ER10-2044-003; ER10-2043-003; ER10-2042-015; ER10-2041-003; ER10-2040-003; ER10-2039-003; ER10-2036-004; ER10-2029-005; ER10-1938-010; ER10-1934-009; ER10-1895-002; ER10-1893-009; ER10-1889-002; ER10-1870-002; ER10-1862-009; ER10-1858-002.

Applicants: Bethpage Energy Center 3, LLC, Calpine Bethlehem, LLC, Calpine Energy Services, L.P., Calpine Mid-Atlantic Generation, LLC, Calpine Mid-Atlantic Marketing, LLC, Calpine Mid Merit, LLC, Calpine New Jersey Generation, LLC, Calpine Newark, LLC, Calpine Power America—CA, LLC, Calpine Vineland Solar, LLC, CES Marketing V, L.P., CES Marketing IX, LLC, CES Marketing X, LLC, CPN Bethpage 3rd Turbine, Inc., KIAC Partners, Nissequogue Cogen Partners, Power Contract Financing, L.L.C., TBG Cogen Partners, Westbrook Energy Center, LLC, Zion Energy LLC

Description: Supplement to June 30, 2014 Updated Market Power Analysis for the Northeast Region of the Calpine Corporation subsidiaries.

Filed Date: 1/13/15.

Accession Number: 20150113-5059.

Comments Due: 5 p.m. ET 2/3/15.

Docket Numbers: ER11-2853-003.

Applicants: Public Service Company of Colorado.

Description: Compliance filing per 35: Compliance Settlement ER11-2853 to be effective 3/15/2013.

Filed Date: 12/3/14.

Accession Number: 20141203-5164.

Comments Due: 5 p.m. ET 1/20/15.

Docket Numbers: ER11-4315-004; ER10-3110-003; ER10-3144-004.

Applicants: Gila River Power LLC, Union Power Partners, L.P., Entegra Power Services LLC.

Description: Notice of Non-Material Change in Status of the Entegra Public Utilities.

Filed Date: 1/12/15.

Accession Number: 20150112-5210.

Comments Due: 5 p.m. ET 2/2/15.

Docket Numbers: ER12-1562-001.

Applicants: Somerset Operating Company, LLC.

Description: Compliance filing per 35.37: Triennial Market Power Update to be effective 1/13/2015.

Filed Date: 1/13/15.

Accession Number: 20150113-5091.

Comments Due: 5 p.m. ET 3/16/15.

Docket Numbers: ER12-1563-001.

Applicants: Cayuga Operating Company, LLC.

Description: Compliance filing per 35.37: Triennial Market Power Update to be effective 1/13/2015.

Filed Date: 1/13/15.

Accession Number: 20150113-5092.

Comments Due: 5 p.m. ET 3/16/15.

Docket Numbers: ER14-2445-003.

Applicants: Midcontinent Independent System Operator, Inc.

Description: Compliance filing per 35: 2015-01-12 Hurdle Rate Compliance Filing to be effective 7/17/2014.

Filed Date: 1/12/15.

Accession Number: 20150112-5335.

Comments Due: 5 p.m. ET 2/2/15.

Docket Numbers: ER14-2945-000.

Applicants: Roundtop Energy LLC.

Description: Second Supplement to September 26, 2014 Roundtop Energy LLC tariff filing.

Filed Date: 1/12/15.

Accession Number: 20150112-5366.

Comments Due: 5 p.m. ET 2/2/15.

Docket Numbers: ER15-574-000; ER15-575-000; ER15-577-000.

Applicants: Rising Tree Wind Farm LLC, Rising Tree Wind Farm II LLC, Rising Tree Wind Farm III LLC.

Description: Amendment to December 4, 2014 Rising Tree Wind Farm LLC, et al. tariff filings [deleting the Waiver Request].

Filed Date: 1/9/15.

Accession Number: 20150109-5185.

Comments Due: 5 p.m. ET 1/26/15.

Docket Numbers: ER15-842-000.

Applicants: Lucky Corridor, LLC, Mora Line, LLC.

Description: Joint Application of Lucky Corridor, LLC and Mora Line, LLC for Authority to Sell Transmission Rights and Service at Negotiated Rates.

Filed Date: 1/12/15.

Accession Number: 20150112-5373.

Comments Due: 5 p.m. ET 2/2/15.

Docket Numbers: ER15-843-000.

Applicants: Kentucky Utilities Company.

Description: § 205(d) rate filing per 35.13(a)(2)(iii): KU Concurrence Duke Revised Interconnection to be effective 11/10/2014.

Filed Date: 1/13/15.

Accession Number: 20150113-5060.

Comments Due: 5 p.m. ET 2/3/15.

Docket Numbers: ER15-844-000.

Applicants: Louisville Gas and Electric Company.

Description: § 205(d) rate filing per 35.13(a)(2)(iii): LGE Concurrence Duke Revised Interconnection to be effective 11/10/2014.

Filed Date: 1/13/15.

Accession Number: 20150113-5078.

Comments Due: 5 p.m. ET 2/3/15.

Docket Numbers: ER15-845-000.

Applicants: PacifiCorp.

Description: Compliance filing per 35: OATT Revised Attachment H-1 (PBOPs Settlement Compliance Filing) to be effective 3/15/2015.

Filed Date: 1/13/15.

Accession Number: 20150113-5082.

Comments Due: 5 p.m. ET 2/3/15.

Take notice that the Commission received the following electric securities filings:

Docket Numbers: ES15-8-000.

Applicants: MidAmerican Energy Company.

Description: Application of MidAmerican Energy Company pursuant to Section 204 of the Federal Power Act.

Filed Date: 1/13/15.

Accession Number: 20150113-5084.

Comments Due: 5 p.m. ET 2/3/15.

Take notice that the Commission received the following foreign utility company status filings:

Docket Numbers: FC15-5-000.

Applicants: Goshen Wind, LP.

Description: Notification of Self-Certification of Foreign Utility Company Status of Goshen Wind, LP.

Filed Date: 1/13/15.

Accession Number: 20150113-5080.

Comments Due: 5 p.m. ET 2/3/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2015.
Nathaniel J. Davis, Sr.,
Deputy Secretary.

[FR Doc. 2015-00726 Filed 1-16-15; 8:45 am]

BILLING CODE 6717-01-P